DEPARTMENT OF ENERGY

Office of Science; Fusion Energy Sciences Advisory Committee

AGENCY: Department of Energy.

ACTION: Notice of open meeting.

SUMMARY: This notice announces a meeting of the Fusion Energy Sciences Advisory Committee (FESAC). The Federal Advisory Committee Act (Public Law 92-463, 86 Stat. 770) requires that public notice of these meetings be announced in the Federal Register.

DATES: Monday, November 17, 2003, 9 a.m. to 6 p.m.; and Tuesday, November 18, 2003, 9 a.m. to 12 noon.

ADDRESSES: Quality Suites, 3 Research Court, Rockville, Maryland 20850, USA.

FOR FURTHER INFORMATION CONTACT: Albert L. Opdenaker, Office of Fusion Energy Sciences; U.S. Department of Energy; 1000 Independence Avenue, SW., Washington, DC 20585-1290; Telephone: 301-903-4927.

SUPPLEMENTARY INFORMATION: Purpose of the Meeting: The purpose of this meeting is to obtain the view of FESAC on how the Department might deal with the recommendations contained in the National Research Council's (NRC) Burning Plasma Assessment Committee report dated September 24, 2003.

Tentative Agenda

Monday, November 17, 2003

• DOE Perspectives

• Office of Fusion Energy Sciences (OFES) Perspectives

• Presentation of the NRC Report “Burning Plasma—Bringing A Star to Earth”

• Discussion of FESAC Response to NRC Report

• Discussion of Procedure for Setting Program Priorities and Selection of Panel Members

• Public Comments

Tuesday, November 18, 2003

• Preliminary Reports from the Inertial Fusion Energy (IFE) Review Panel

• Preliminary Report from the Workforce Development Panel

• Preliminary Report from the Committee of Visitors

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room; IE-190; Forrestal Building; 1000 Independence Avenue, SW., Washington, DC, between 9 a.m. and 4 p.m., Monday through Friday, except Federal holidays.

Issued at Washington, DC, on October 23, 2003.
Rachel M. Samuel,
Deputy Advisory Committee Management Officer.

[FR Doc. 03-27143 Filed 10-27-03; 8:45 am]

BILLING CODE 6450-01-P